Title 3—

The President

Proclamation 8599 of November 8, 2010

World Freedom Day, 2010

By the President of the United States of America

A Proclamation

The Berlin Wall once stood as a painful barrier between family and friends, a dark symbol of oppression and stifled liberties. On November 9, 1989, in a powerful affirmation of freedom, Germans from both sides of the wall joined to tear down the hated blockade. World Freedom Day commemorates the end of this icon of division; celebrates the courageous resolve of individuals who insisted upon a better future for themselves and their country; and marks the reunification of a city, a nation, and a people. This cherished day also calls upon us to reflect on our world anew and recognize that the work of freedom is never finished.

Our world has become increasingly interconnected, and more prosperous, cooperative, and free. We stand at a transformational moment in history, where there is tremendous potential not only to tear down walls, but also to build bridges between people separated by geography, cultures, and beliefs. Across the world, we have seen the power of the ballot box and the desire of people to break through artificial barriers and work to implement solutions to common challenges. Civil society and governments are coming together as never before to promote liberty, share knowledge, and protect human dignity.

With enduring bonds forged across decades, the democracies that emerged one by one from behind the Iron Curtain are now America’s allies and partners, and today we jointly confront global challenges. Examples of the strength of conviction, these sovereign nations inspire all who still yearn to exercise their universal human rights. The 21st anniversary of the fall of the Berlin Wall is an occasion to renew our common commitment to advance the cause of world freedom in the 21st century.

The arc of history has shown that human destiny is what we make of it. Freedom has expanded across the globe because principled men and women have marched, spoken out, and demanded the rights and dignity that should be enjoyed by all humanity. Those nations that have already secured these liberties share a responsibility to uphold the light of freedom in other countries as well as in their own. On World Freedom Day, we rededicate ourselves to supporting democracy and the rule of law, to strengthening civil society, and to promoting the free exchange of information around the world. United in common purpose, we will continue to work towards the promise of a brighter future and a time when all peoples and nations enjoy the hope and peace of freedom.

NOW, THEREFORE, I, BARACK OBAMA, President of the United States of America, by virtue of the authority vested in me by the Constitution and the laws of the United States, do hereby proclaim November 9, 2010, as World Freedom Day. I call upon the people of the United States to observe this day with appropriate ceremonies and activities, reaffirming our dedication to freedom and democracy.

IN WITNESS WHEREOF, I have hereunto set my hand this eighth day of November, in the year of our Lord two thousand ten, and of the Independence of the United States of America the two hundred and thirty-fifth.

[FR Doc. 2010-28852

Filed 11-12-10; 8:45 am]

Billing code 3195-W1-P